DEPARTMENT OF COMMERCE

National Oceanic and Atmospheric Administration (NOAA)

Nomination of Existing Marine Protected Areas to the National System of Marine Protected Areas

AGENCY: NOAA, Department of Commerce (DOC).

ACTION: Public notice and opportunity for comment on the list of nominations received from federal, state, territorial and tribal marine protected area programs to join the National System of Marine Protected Areas.

SUMMARY: In July 2011, NOAA and the Department of the Interior (DOI) invited federal, state, commonwealth, and territorial marine protected area (MPA) programs with potentially eligible existing MPAs to nominate their sites to the National System of MPAs (national system). The national system and the nomination process are described in the Framework for the National System of Marine Protected Areas of the United States (Framework), developed in response to Executive Order 13158 on Marine Protected Areas. The final Framework was published on November 19, 2008, (73 FR 69608) and provides guidance for collaborative efforts among federal, state, commonwealth, territorial, tribal and local governments and stakeholders to develop an effective and well coordinated national system of MPAs that includes existing MPAs meeting national system criteria as well as new sites that may be established by managing agencies to fill key conservation gaps in important ocean areas.

DATES: Comments on the nominations to the national system are due February 13, 2012.

FOR FURTHER INFORMATION CONTACT: Comments should be sent to Lauren Wenzel, NOAA, at (301) 713-3100, ext. 136 or via email at mpa.comments@noaa.gov. A detailed electronic copy of the List of National System MPAs is available for download at http://www.mpa.gov.

SUPPLEMENTARY INFORMATION:

Background on National System

The national system is made up of member MPA sites, networks and systems established and managed by federal, state, commonwealth, territorial, tribal and/or local governments that collectively enhance conservation of the nation's natural and cultural marine heritage and represent its diverse ecosystems and resources. Although participating sites continue to be managed independently, national system MPAs also work together at the regional and national levels to achieve common objectives for conserving the nation's important natural and cultural resources, with emphasis on achieving the priority conservation objectives of the Framework. MPAs include sites with a wide range of protection, from multiple use areas to no-take reserves where all extractive uses are prohibited. The term MPA refers only to the marine portion of a site (below the mean high tide mark) that may include both terrestrial and marine components.

The national system is a mechanism to foster greater collaboration among participating MPA sites and programs in order to enhance stewardship in the waters of the United States. The act of joining the national system does not create new MPAs, or create new restrictions for the existing MPAs that become members. In fact, a site must have existing protections of natural and/or cultural resources in place in order to be eligible to join the national system, as well as meet other criteria described in the Framework. Joining the national system does not establish new regulatory authority or change existing regulations in any way, require changes affecting the designation process or management of member MPAs, or bring state, territorial, tribal or local sites under federal authority.

Benefits of joining the national system, which are expected to increase over time as the system matures, include a facilitated means to work with other sites in the MPA's region, and nationally on issues of common conservation concern; fostering greater public and international recognition of U.S. MPAs and the resources they protect; priority in the receipt of available technical and other support for cross-cutting needs; and the opportunity to influence federal and regional ocean conservation and management initiatives (such as Coastal and Marine Spatial Planning, integrated ocean observing systems, systematic monitoring and evaluation, targeted outreach to key user groups, and helping to identify and address MPA research needs). In addition, the national system provides a forum for coordinated regional planning about place-based conservation priorities that does not otherwise exist.

Nomination Process

The Framework describes two major focal areas for building the national system—a nomination process to allow existing MPAs that meet the entry criteria to become part of the system and a collaborative regional gap analysis process to identify areas of significance for natural or cultural resources that may merit additional protection through existing federal, state, commonwealth, territorial, tribal or local MPA authorities. A call for nominations is issued annually, and may also be issued at the request of an MPA management agency. This round of nominations began on July 6, 2011 and the deadline for nominations was October 31, 2011.

There are three entry criteria for existing MPAs to join the national system, plus a fourth for cultural heritage. Sites that meet all pertinent criteria are eligible for the national system.

1. Meets the definition of an MPA as defined in the Framework.

2. Has a management plan (can be site-specific or part of a broader programmatic management plan; must have goals and objectives and call for monitoring or evaluation of those goals and objectives).

3. Contributes to at least one priority conservation objective as listed in the Framework (see below).

4. Cultural heritage MPAs must also conform to criteria for the National Register for Historic Places.

Additional sites not currently meeting the management plan criterion can be evaluated for eligibility to be nominated to the national system on a case-by-case basis based on their ability to fill gaps in the national system coverage of the priority conservation objectives and design principles described in the Framework.

The MPA Center used existing information in the MPA Inventory to determine which MPAs meet the first and second criteria. The inventory is online at http://www.mpa.gov/dataanalysis/mpainventory/ and information about potentially eligible sites is posted online at http://www.mpa.gov/pdf/national-system/nominationsummary_jul11.pdf. As part of the nomination process, the managing entity for each potentially eligible site is asked to provide information on the third and fourth criteria. Following this public comment period, the National Marine Protected Areas Center will make a determination about the eligibility of nominated sites. All comments will be forwarded to the relevant MPA management agency, which will reaffirm or withdraw the nomination based on public comment received and any other factors deemed relevant.

List of MPAs Nominated to the National System MPAs

The following MPAs have been nominated by these management entities: American Samoa Department of Marine and Wildlife Resources; Massachusetts Board of Underwater Archaeological Resources; National Park Service; U.S. Fish and Wildlife Service; Puerto Rico Department of Natural and Environmental Resources; South Carolina Institute of Archaeology and Anthropology; Virgin Islands Department Of Planning and Natural Resources; and Washington Department of Natural Resources.

The complete List of National System MPAs, which now includes 297 members, is available at www.mpa.gov.

Federal Marine Protected Areas

Cumberland Island National Seashore (GA)

Ebey's Landing National Historical Reserve (WA)

Farallon National Wildlife Refuge (CA)

Fort Pulaski National Monument (GA)

American Samoa

Aoa Village Marine Protected Area

Sa'ilele Village Marine Protected Area

Amanave Village Marine Protected Area

Massachusetts

Albert Gallatin Exempt Site

Alice M. Colburn Exempt Site

Alice M. Lawrence Exempt Site

Ardandhu Exempt Site

Barge and Crane Exempt Site

California Exempt Site State

Charles S. Haight Exempt Site

Chester A. Poling Exempt Site

Chelsea Exempt Site

City of Salisbury Exempt Site

Corvan Exempt Site

Dixie Sword Exempt Site

Edward Rich Exempt Site

Henry Endicott Exempt Site

Herbert Exempt Site

Herman Winter Exempt Site

Hilda Garston Exempt Site

James S. Longstreet Exempt Site

John Dwight Exempt Site

Kershaw Exempt Site

Kiowa Exempt Site

Lackawana Exempt Site

Lunet Exempt Site

Mars Exempt Site

Pemberton Exempt Site

Pendleton Exempt Site

Pinthis Exempt Site

Port Hunter Exempt Site

Pottstown Exempt Site

Romance Exempt Site

Seaconnet Exempt Site

Trojan Exempt Site

U.S.S. Grouse Exempt Site

U.S.S. New Hampshire Exempt Site

U.S.S. Triana Exempt Site

U.S.S. Yankee Exempt Site

U.S.S. YSD Exempt Site

H.M.C.S. Saint Francis Exempt Site

French Van Gilder Exempt Site

Vineyard Sound Lightship Exempt Site

Puerto Rico

Arrecifes de la Cordillera Natural Reserve

Canal Luis Peña Natural Reserve

Isla de Desecheo Marine Reserve

Isla de Mona Natural Reserve

Tres Palmas de Rincón Marine Reserve

South Carolina

Cooper River Heritage Dive Trail

Ashley River Heritage Canoe Trail

U.S. Virgin Islands

St. Thomas East End Reserve

Washington

Smith and Minor Island Aquatic Reserve

Protection Island Aquatic Reserve

Nisqually Reach Aquatic Reserve

Dated: December 22, 2011.
Holly Bamford,
Deputy Assistant Administrator, National Ocean Service, National Oceanic Atmospheric Administration.

[FR Doc. 2011-33540 Filed 12-29-11; 8:45 am]

BILLING CODE P